DEPARTMENT OF THE TREASURY

Office of Investment Security

31 CFR Part 800

RIN 1505-AC64

Provisions Pertaining to Certain Investments in the United States by Foreign Persons

Correction

In proposed rule document 2019-20099 beginning on page 50174 in the issue of Tuesday, September 24, 2019, make the following correction:

On page 50174, in the first column, in the 23rd line, “October 24, 2019” should read “October 17, 2019”.

[FR Doc. C1-2019-20099 Filed 10-1-19; 8:45 am]

BILLING CODE 1301-00-D